DEPARTMENT OF COMMERCE

International Trade Administration

[A-570-001]

Potassium Permanganate From the People's Republic of China: Final Results of Expedited Fifth Sunset Review of the Antidumping Duty Order

AGENCY: Enforcement and Compliance, International Trade Administration, Department of Commerce.

SUMMARY: As a result of this fifth expedited sunset review, the Department of Commerce (Commerce) finds that revocation of the antidumping duty (AD) order on potassium permanganate from the People's Republic of China (China) would be likely to lead to continuation or recurrence of dumping at the levels indicated in the “Final Results of Review” section of this notice.

DATES: Applicable June 7, 2021.

FOR FURTHER INFORMATION CONTACT: Kabir Archuletta, AD/CVD Operations, Office V, Enforcement and Compliance, International Trade Administration, U.S. Department of Commerce, 1401 Constitution Avenue NW, Washington, DC 20230; telephone: (202) 482-2593.

SUPPLEMENTARY INFORMATION:

Background

On January 31, 1984, Commerce issued the AD order on potassium permanganate from China.¹ On March 18, 2016, Commerce published the most recent continuation of the Order.² On February 1, 2021, Commerce published the Notice of Initiation of the fifth sunset review of Order, pursuant to section 751(c) of the Tariff Act of 1930, as amended (the Act).³ On February 12, 2021, Commerce received a notice of intent to participate from Carus LLC (the petitioner), a domestic producer of potassium permanganate and the petitioner in the underlying investigation, within the deadline specified in 19 CFR 351.218(d)(1)(i).⁴ The petitioner claimed domestic interested party status under section 771(9)(C) of the Act, as a manufacturer of a domestic like product in the United States.⁵ On March 3, 2021, the petitioner filed its timely substantive response within the 30-day deadline specified in 19 CFR 351.218(d)(3)(i).⁶ Commerce received no substantive responses from any other interested party with respect to the Order covered by this sunset review, nor was a hearing requested. As a result, pursuant to section 751(c)(3)(B) of the Act, and 19 CFR 351.218(e)(1)(ii)(C)(2), Commerce is conducting an expedited (120-day) sunset review of the Order.

¹ See Antidumping Duty Order; Potassium Permanganate from the People's Republic of China, 49 FR 3897 (January 31, 1984) (Order).

² See Potassium Permanganate from the People's Republic of China: Continuation of Antidumping Duty Order, 81 FR 14835 (March 18, 2016).

³ See Initiation of Five-Year (Sunset) Reviews, 86 FR 7709 (February 1, 2021).

⁴ See Petitioner's Letter, “Notice of Intent to Participate of Petitioner Carus LLC,” dated February 12, 2021.

⁵ Id.

⁶ See Petitioner's Letter, “Petitioner's Substantive Response to Notice of Initiation Carus LLC,” dated March 3, 2021 at 1.

Scope of the Order

The merchandise covered by the Order is potassium permanganate, an inorganic chemical produced in free-flowing, technical, and pharmaceutical grades. Potassium permanganate is currently classifiable under subheading 2841.61.00 of the Harmonized Tariff Schedule of the United States (HTSUS). Although the HTSUS subheading is provided for convenience and customs purposes, the written description of the merchandise remains dispositive.

Analysis of Comments Received

All issues raised in this review, including the likelihood of continuation or recurrence of dumping in the event of revocation and the magnitude of the margins likely to prevail if the Order were revoked, are addressed in the Issues and Decision Memorandum, which is hereby adopted by this notice.⁷ The Issues and Decision Memorandum is a public document and is on file electronically via the Enforcement and Compliance Antidumping and Countervailing Duty Centralized Electronic Services System (ACCESS). ACCESS is available to registered users at http://access.trade.gov. A list of topics discussed in the Issues and Decision Memorandum is included as an Appendix to this notice. In addition, a complete version of the Issues and Decision Memorandum can be accessed directly at http://enforcement.trade.gov/frn/index.html.

⁷ See Memorandum, “Issues and Decisions Memorandum for the Final Results of the Antidumping Duty Administrative Review: Potassium Permanganate from the People's Republic of China,” dated concurrently with this notice (Issues and Decisions Memorandum).

Final Results of Review

Pursuant to sections 751(c)(1) and 752(c)(1) and (3) of the Act, Commerce determines that revocation of the AD order on potassium permanganate from China would likely lead to continuation or recurrence of dumping, and that the magnitude of margins likely to prevail is up to 128.94 percent.⁸

⁸ Id.

Administrative Protective Order

This notice serves as the only reminder to parties subject to administrative protective order (APO) of their responsibility concerning the destruction of proprietary information disclosed under APO in accordance with 19 CFR 351.305(a). Timely notification of the return or destruction of APO materials, or conversion to judicial protective orders is hereby requested. Failure to comply with the regulations and terms of an APO is a violation which is subject to sanction.

Notifications to Interested Parties

We are issuing and publishing these final results in accordance with sections 751(c), 752(c), and 777(i)(1) of the Act, and 19 CFR 351.221(c)(5)(ii).

Dated: June 1, 2021.
Christian Marsh,
Acting Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Margin of Dumping Likely to Prevail

VII. Final Results of Sunset Review

VIII. Recommendation

[FR Doc. 2021-11852 Filed 6-4-21; 8:45 am]

BILLING CODE 3510-DS-P